EXPORT-IMPORT BANK

[Public Notice: 2025-3001]

Agency Information Collection Activities: Submission to the Office of Management and Budget for Review and Approval; Comment Request; EIB 99-14, Export-Import Bank Trade Reference Form

AGENCY: Export-Import Bank of the United States.

ACTION: Submission for OMB review and comments request.

SUMMARY: The Export-Import Bank of the United States (EXIM), pursuant to the Export-Import Bank Act of 1945, as amended facilitates the finance of the export of U.S. goods and services. As part of its continuing effort to reduce paperwork and respondent burden, EXIM invites the general public and other Federal agencies to comment on the proposed information collection, as required by the Paperwork Reduction Act of 1995.

DATES: Comments should be received on or before July 24, 2025 to be assured of consideration.

ADDRESSES: Comments may be submitted electronically on www.regulations.gov (EIB 99-14) or by mail to Office of Information and Regulatory Affairs, 725 17th Street NW, Washington, DC 20038, Attn: OMB 3048-0042. The form can be viewed at https://img.exim.gov/s3fs-public/pub/pending/eib99-14_1REV_508.pdf.

FOR FURTHER INFORMATION CONTACT: To request additional information, please Edward Coppola edward.coppola@exim.gov. 202-565-3717.

SUPPLEMENTARY INFORMATION:

Titles and Form Number: EIB 99-14, Export-Import Bank Trade Reference form.

OMB Number: 3048-0042.

Type of Review: Regular.

Need and Use: This form will enable EXIM to make a credit decision on a foreign buyer credit limit request submitted by a new or existing policy holder. Additionally, this form is used by those EXIM policy holders granted delegated authority to commit the Bank to a foreign buyer credit limit. This form provides essential credit information used by EXIM credit officers when analyzing requests for export credit insurance/financing support, both short-term (360 days and less) and medium-term (longer than 360 days), for the export of their U.S. goods and services. The form is an integral part of the short term Multi-Buyer export credit insurance policy for those policy holders granted foreign buyer discretionary credit limit authority (DCL It allows EXIM to determine whether a company has a good payment history. Multi-Buyer policy holders given DCL authority may use this form as the sole source or one piece among several sources of credit information for their internal foreign buyer credit decision which, in turn, commits EXIM's insurance.

Affected Public: This form affects entities involved in the export of U.S. goods and services.

Annual Number of Respondents: 6,500.

Estimated Time per Respondent: 15 minutes.

Annual Burden Hours: 1,625 hours.

Frequency of Reporting or Use: As needed.

Dated: June 20, 2025.
Andrew Smith,
Records Officer.

[FR Doc. 2025-11558 Filed 6-23-25; 8:45 am]

BILLING CODE 6690-01-P